DEPARTMENT OF HEALTH AND HUMAN SERVICES

Health Care Financing Administration

[HCFA-1060-N3]

RIN 0938-AJ57

Medicare Program; Cost-of-Living Adjustment (COLA) for the Territory of Guam in the Schedules of Per-Visit Limitations on Home Health Agency Costs

AGENCY: Health Care Financing Administration (HCFA), HHS.

ACTION: Notice.

SUMMARY: This notice announces the cost-of-living adjustment for the territory of Guam for the schedules of per-visit limitations on home health agency (HHA) costs for open cost reporting periods beginning on or after October 1, 1997 and portions of cost reporting periods beginning before October 1, 2000.

EFFECTIVE DATE: This notice is effective on August 6, 2001.

FOR FURTHER INFORMATION CONTACT: Michael D. Bussacca, (410) 786-4602.

SUPPLEMENTARY INFORMATION: We have published the following notices to announce the HHA interim payment system per-visit limitations and updates to those limitations. These notices were published on January 2, 1998 (63 FR 89), effective on October 1, 1997; August 1, 1998 (63 FR 42911), effective October 1, 1998; and August 5, 1999 (64 FR 42766), effective on October 1, 1999.

It was our intention to include a COLA for each U.S. State and Territory eligible for those adjustments under the Office of Personnel Management (OPM) regulations. We inadvertently published these notices without a COLA for the Territory of Guam because we did not include COLA factors for Guam in the per-visit tables in the applicable notices. The COLA factor for Guam should have been 1.225 in each of these notices. The OPM has not updated the factor for Guam for these 3 cost reporting years; therefore, the COLA remains 1.225 for each cost reporting period. The COLA factor applies to the per-visit limitations for all open cost reporting periods beginning on or after October 1, 1997 (COLA Table at 63 FR 96), October 1, 1998 (COLA Table at 63 FR 42926), and October 1, 1999 (COLA Table at 64 FR 42777).

Regulatory Impact Statement

We have examined the impacts of this rule as required by Executive Order 12866 (September 1993, Regulatory Planning and Review) and the Regulatory Flexibility Act (RFA) (September 19, 1980 Pub. L. 96-354). Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more annually). We have determined that this is not a major rule.

The RFA requires agencies to analyze options for regulatory relief of small businesses. For purposes of the RFA, small entities include small businesses, nonprofit organizations and government agencies. Most hospitals and most other providers and suppliers are small entities, either by nonprofit status or by having revenues of $5 million or less annually. For purposes of the RFA, most HHAs are considered to be small entities. Individuals and States are not included in the definition of a small entity.

In addition, section 1102(b) of the Act requires us to prepare a regulatory impact analysis if a rule may have a significant impact on the operations of a substantial number of small rural hospitals. This analysis must conform to the provisions of section 604 of the RFA. For purposes of section 1102(b) of the Act, we define a small rural hospital as a hospital that is located outside of a Metropolitan Statistical Area and has fewer than 50 beds.

Section 202 of the Unfunded Mandates Reform Act of 1995 also requires that agencies assess anticipated costs and benefits before issuing any rule that may result in expenditure in any one year by State, local, or tribal governments, in the aggregate, or by the private sector, of $100 million. We believe that there are no costs associated with this notice that apply to these governmental and private sectors. Therefore, the law does not apply.

Executive Order 13132 establishes certain requirements that an agency must meet when it promulgates a proposed rule (and subsequent final rule) that imposes substantial direct requirement costs on State and local governments, preempts State law, or otherwise has Federalism implications. We have determined that this notice does not significantly affect the rights, roles, and responsibilities of States.

For these reasons, we are not preparing analyses for either the RFA or section 1102(b) of the Act because we have determined, and we certify, that this rule will not have a significant economic impact on a substantial number of small entities or a significant impact on the operations of a substantial number of small rural hospitals.

This notice is not a major rule as defined in title 5, United States Code, section 804(2).

In accordance with the provisions of Executive Order 12866, this regulation was reviewed by the Office of Management and Budget.

Authority: Section of the Social Security Act (42 U.S.C.) (Catalog of Federal Domestic Assistance Program No. 93.773 Medicare—Hospital Insurance Program; and No. 93.774, Medicare—Supplementary Medical Insurance Program).

Dated: February 16, 2001.
Michael McMullan,
Acting Deputy Administrator,Health Care Financing Administration.
Dated: March 14, 2001.
Tommy G. Thompson,
Secretary.

[FR Doc. 01-16865 Filed 7-3-01; 8:45 am]

BILLING CODE 4120-01-P